COMMODITY FUTURES TRADING COMMISSION

Sunshine Act Meetings

Time and Date: 10 a.m., Thursday, July 12, 2007.

Place: 1155 21st St., NW., Washington DC, 9th Floor Commission Conference Room.

Status: Closed.

Matters to be Considered: Rule Enforcement Review Meeting.

Contact Person for More Information: Eileen A. Donovan, 202-418-5100.

Eileen A. Donovan,
Acting Secretary of the Commission.

[FR Doc. 07-3096 Filed 6-13-07; 10:55 am]

BILLING CODE 6351-01-M